DEPARTMENT OF COMMERCE

International Trade Administration

(A-570-860)

Notice of Amended Final Antidumping Duty Determination of Sales at Less Than Fair Value: Steel Concrete Reinforcing Bar from the People's Republic of China

AGENCY: Import Administration, International Trade Administration, Department of Commerce.

EFFECTIVE DATE: August 20, 2001.

FOR FURTHER INFORMATION CONTACT: Magd Zalok or Constance Handley, Office of AD/CVD Enforcement 5, Import Administration, International Trade Administration, U.S. Department of Commerce, 14th Street and Constitution Avenue NW, Washington, DC 20230; telephone (202) 482-4162 or (202) 482-0631, respectively.

Amendment of Final Determination

The Department of Commerce (the Department) is amending the final determination in the antidumping investigation of steel concrete reinforcing bar from the People's Republic of China (rebar) to reflect the correction of a ministerial error. This amended final determination results in revised antidumping rates.

Background

On June 22, 2001, the Department issued its affirmative final determination in this proceeding. See Notice of Final Determination of Sales at Less Than Fair Value: Steel Concrete Reinforcing Bars From the People's Republic of China, 66 FR 33522 (June 22, 2001) (Final Determination). On June 25, 2001, the Department received timely allegations from Laiwu Steel Group, Ltd. (Laiwu) of ministerial errors in connection with the final determination.

In its allegations, Laiwu stated that the Department made ministerial errors with regard to the inflator used in the valuation of the factors of production for anthracite coal, iron ore concentrate, slag water, and iron skin. See letter from Laiwu to the Department of Commerce alleging ministerial errors in the final determination (June 25, 2001).

On June 27, 2001, the petitioner¹ objected to Laiwu's allegation, stating that the Department's decision to use the Indian inflator is methodological in nature, not a ministerial error. Therefore, the petitioner stated that Laiwu's allegation is misplaced, and submits that the Department's use of Indian inflation rates was a reasonable approach.

¹ The petitioner in this investigation is the Rebar Trade Action Coalition (RTAC), and its individual members, AmeriSteel, Auburn Steel Co., Inc., Birmingham Steel Corp., Border Steel, Inc., Marion Steel Company, Riverview Steel, and Nucor Steel and CMC Steel Group.

Amended Determination

The Department has reviewed its final calculations and determined that unintentional ministerial errors have been made within the meaning of Section 735(e) of the Tariff Act of 1930, as amended by the Uruguay Round Agreements Act (the Act) and 19 CFR 351.224(f). We agree with Laiwu that the Department erred in using incorrect inflators to adjust for inflation the values for anthracite coal, iron ore concentrate, slag water, and iron skin. For a detailed analysis of these allegations, relevant comments, and the Department's determinations, see the June xx, 2001, Memorandum to Bernard T. Carreau from Magd Zalok and Constance Handley, regarding Ministerial Error Allegations on file in room B-099 of the Main Commerce building. As a result of our analysis of Laiwu's allegations, we are amending our final determination to revise the antidumping rate for Laiwu, in accordance with 19 CFR 351.224(e). Suspension of liquidation will be revised accordingly and parties shall be notified of this determination, in accordance with sections 735(e) of the Tariff Act of 1930, as amended.

The following weighted-average dumping margins apply:

Exporter/manufacturer | Weighted-average margin percentage
Laiwu Steel Group | 132.53
PRC-Wide Rate | 132.53

This determination is issued and published pursuant to sections 733(f) and 777(i)(1) of the Act.

Dated: August 13, 2001.
Bernard T. Carreau,
Acting Assistant Secretary for Import Administration.

[FR Doc. 01-20912 Filed 8-17-01; 8:45 am]

BILLING CODE 3510-DS-P